NUCLEAR REGULATORY COMMISSION

Sunshine Act Meeting

Agency Holding the Meeting: Nuclear Regulatory Commission.

Date: Weeks of May 17, 24, 31, June 7, 14, 21, 2004.

Place: Commissioners' Conference Room, 11555 Rockville Pike, Rockville, Maryland.

Status: Public and Closed.

Matters to be considered:

Week of May 17, 2004

There are no meetings scheduled for the Week of May 17, 2004.

Week of May 24, 2004—Tentative

Tuesday, May 25, 2004

2 p.m.—Discussion of Management Issues (Closed—Ex. 2)

Wednesday, May 26, 2004

10:30 a.m.—All Employees Meeting (Public Meeting)

1:30 p.m.—All Employees Meeting (Public Meeting)

Week of May 31, 2004—Tentative

Wednesday, June 2, 2004

9:30 a.m.—Briefing on Equal Employment Opportunity Program (Public Meeting) (Contact: Corenthis Kelley, 301-415-7380)

This meeting will be webcast live at the Web address— http://www.nrc.gov

1:30 p.m.—Meeting with Advisory Committee on Reactor Safeguards (ACRS) (Public Meeting) (Contact: John Larkins, 301-415-7360)

This meeting will be webcast live at the Web address— http://www.nrc.gov

Week of June 7, 2004—Tentative

Thursday, June 10, 2004

1:30 p.m.—Discussion of Security Issues (Closed—Ex. 1)

Week of June 14, 2004—Tentative

There are no meetings scheduled for the Week of June 14, 2004.

Week of June 21, 2004—Tentative

There are no meetings scheduled for the Week of June 21, 2004.

*The schedule for Commission meetings is subject to change on short notice. To verify the status of meetings call (recording)—(301) 415-1292. Contact person for more information: Dave Gamberoni, (301) 415-1651.

* * * * *

SUPPLEMENTARY INFORMATION: By a vote of 3-0 on May 7 and 10, the Commission determined pursuant to U.S.C. 552b(e) and § 9.107(a) of the Commission's rules that “Affirmation of Final Rule: Revision 10 CFR 50.48 to Allow Performance-Based Approaches Using National Fire Protection Association (NFPA) Standard 805 (NFPA 805), ‘Performance-Based Standard for Fire Protection for Light Water Reactor Electric Generating Plants,’ 2001 Edition” be held on May 11, and on less than one week's notice to the public.

* * * * *

The NRC Commission Meeting Schedule can be found on the Internet at: http://www.nrc.gov/what-we-do/policy-making/schedule.html.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: May 13, 2004.
Dave Gamberni,
Office of the Secretary.

[FR Doc. 04-11292 Filed 5-14-04; 11:42 am]

BILLING CODE 7590-01-M